DEPARTMENT OF JUSTICE

Notice of Lodging of Settlement Agreement Under the Comprehensive Environmental Response, Compensation, and Liability Act

Notice is hereby given that on March 31, 2011, a proposed Settlement Agreement in In re Exide Technologies et al., No. 02-11125(KJC) (Bankr. D. Del.), was lodged with the United States Bankruptcy Court for the District of Delaware. In this bankruptcy matter the United States, on behalf of the Environmental Protection Agency, sought reimbursement of response costs incurred pursuant to the Comprehensive Environmental Response, Compensation, and Liability Act (“CERCLA”) in connection with 21 Superfund sites, and on behalf of the National Oceanic and Atmospheric Administration the United States sought natural resource damages under CERCLA for two sites. The Settlement Agreement between the United States and the Debtor, Exide Technologies, and certain of its Debtor affiliates, including Exide Illinois, Inc., Exide Delaware, LLC, RBD Liquidation, LLC, Dixie Metals Company, and Refined Metals Corporation, resolves Exide's liability to the United States' for response costs under Section 107(a) of CERCLA, 42 U.S.C. 9607(a), and Exide's liability under Section 6973 of the Resource Conservation and Recovery Act (“RCRA”), 42 U.S.C. 6973, for the following 21 sites: (1) Hamburg Lead Superfund Site, Hamburg, PA (03BH); (2) Hamburg Rail Cut Superfund Site, Hamburg, PA (A3H6); (3) Hamburg Port Clinton Avenue Superfund Site, Hamburg, PA (A3J4); (4) (5) Hamburg Peach Alley Parking Lot Superfund Site, Hamburg, PA (A3V1); (6) Kaercher Creek Superfund Site, Hamburg and Windsor Township, PA (A3H8); (7) Hamburg Mill Creek Superfund Site, Hamburg, PA (A3H7); (8) Hamburg Pleasant Hills Trailer Park Superfund Site, Hamburg, PA (A3H2); (9) Hamburg Ambulance Garage Superfund Site, Hamburg, PA (A3H5); Hamburg South Canal Superfund Site, Hamburg, PA (A3J2); (10) Non-Debtor-Owned Portions of the Price Battery Superfund Site, Hamburg, PA (A3E2); (11) Brown's Battery Superfund Site, Tilden Township, PA (03-84); (12) ESB Superfund Site, Atlanta, GA (A4AB); (13) Raleigh Street Dump Superfund Site, Tampa, FL (A4J7); (14) Ross Metals Superfund Site, Rossville, Fayette County, TN (O4RO); (15) Still Meadow Battery Superfund Site, Valrico, FL (O4A2); (16) Magic Marker/Gould Battery Superfund Site, Trenton, NJ; (17) Bowers Battery Superfund Site, New Philadelphia, OH (B5S9); (18) Puente Valley Operable Unit of the San Gabriel Valley Superfund Sites, Area 4,Industry, CA (O98V); (19) Operating Industries Superfund Site, Monterey Park, CA (O958); (20) Hamburg Old Gas Station Superfund Site, Hamburg, PA (A3ER); (21) Hamburg Schappelle Road Superfund Site, Hamburg, PA (A3EG).

The Settlement Agreement also resolves the claims of the United States on behalf of NOAA for natural resource damages under Section 107(a) of CERCLA, 42 U.S.C. 9607(a), for the following two sites: NL Industries, Inc. Superfund Site, Pedricktown, Salem County, NJ; and Custom Distribution Services Site in Perth Amboy, Middlesex County, NJ.

Under the Settlement Agreement, the Debtors have agreed to an allowed, general unsecured claim in the total amount of $67,599,678 to resolve their liability under Sections 106 and 107 of CERCLA and Section 7003 of RCRA at the 21 Liquidated and 2 NRD Sites. The Settlement Agreement also contains provisions pertaining to the treatment of three other categories of sites: Debtor-Owned Sites, Additional Sites, and sites subject to Work Orders and Work Consent Decrees.

The Department of Justice will receive for a period of thirty (30) days from the date of this publication comments relating to the Settlement Agreement. Comments should be addressed to the Acting Assistant Attorney General, Environment and Natural Resources Division, and either e-mailed to pubcomment-ees.enrd@usdoj.gov or mailed to P.O. Box 7611, U.S. Department of Justice, Washington, DC 20044-7611, and should refer to In re Exide, D.J. Ref. 90-11-2-07802. Persons may request an opportunity for a public meeting in the affected area in accordance with Section 7003(d) of RCRA, 42 U.S.C. 6973(d).

The Settlement Agreement may be examined at the United States Environmental Protection Agency, Ariel Rios Building, 1200 Pennsylvania Avenue, NW., Washington, DC 20004. During the public comment period, the Settlement Agreement may also be examined on the following Department of Justice Web site, to http://www.usdoj.gov/enrd/Consent_Decrees.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.75 (25 cents per page reproduction cost) payable to the U.S. Treasury or, if by e-mail or fax, forward a check in that amount to the Consent Decree Library at the stated address.

Robert Brook,
Assistant Chief, Environmental Enforcement Section, Environment and Natural Resources Division.

[FR Doc. 2011-8149 Filed 4-5-11; 8:45 am]

BILLING CODE 4410-15-P